SECURITIES AND EXCHANGE COMMISSION

Submission for OMB Review; Comment Request

Upon Written Request; Copies Available From: Securities and Exchange Commission, Office of Filings and Information Services, Washington, DC 20549

Extension:

Industry Guides, SEC File No. 270-69, OMB Control No. 3235-0069

Notice of Exempt Roll-Up Preliminary Communication, SEC File No. 270-396, OMB Control No. 3235-0425.

Notice is hereby given that, pursuant to the Paperwork Reduction Act of 1995 (44 U.S.C. 3501 et seq.) the Securities and Exchange Commission (“Commission”) has submitted to the Office of Management and Budget requests for extension of the previously approved collections of information discussed below.

Industry Guides are used by registrants in certain specified industries as disclosure guidelines in preparing Securities Act of 1933 (“Securities Act”) and Securities Exchange Act of 1934 (“Exchange Act”) registration statements as well as other Exchange Act filings. The information filed with the Commission using the industry guides permits verification of compliance with securities law requirements and assures the public availability and dissemination of such information. The information required by the industry guides is filed on occasion and is mandatory. All information is provided to the public. The Commission estimates for administrative purposes that the total annual burden is one hour and the total number of respondents is one.

Notice of Exempt Preliminary Roll-Up Communication (“Notice”) is required to be filed by a person making such a communication by Exchange Act Rules 14a-2(b)(4) and 14a-6(a). The Notice provides public information regarding the person's ownership interest and any potential conflicts of interest. The Notice is filed on occasion and the information required is mandatory. All information is provided to the public upon request. The Notice takes approximately .25 hours per response and is filed by 4 respondents for a total 1 annual burden hour.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503; and (ii) Michael E. Bartell, Associate Executive Director, Office of Information Technology, Securities and Exchange Commission, 450 Fifth Street, NW., Washington, DC 20549. Comments must be submitted to OMB within 30 days of this notice.

Dated: February 21, 2001.
Margaret H. McFarland,
Deputy Secretary.

[FR Doc. 01-5245 Filed 3-2-01; 8:45 am]

BILLING CODE 8010-01-M